COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities and delete products previously furnished by such agency.

DATES: Comments Must Be Received On Or Before: 10/20/2014.

ADDRESSES: Committee for Purchase From People Who Are Blind or Severely Disabled, 1401 S. Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: MR 919—Brush, Scrubber Plastic Block

NSN: MR 1078—Broom, Corn Whisk

NPA: Alphapointe, Kansas City, MO

Contracting Activity: Defense Commissary Agency, Fort Lee, VA

Coverage: C-List for the requirements of military commissaries and exchanges as aggregated by the Defense Commissary Agency, Fort Lee, VA

NSN: 6140-01-545-0940—Battery, Storage, 12V

NPA: Eastern Carolina Vocational Center, Inc., Greenville, NC

Contracting Activity: Defense Logistics Agency Land and Maritime, Columbus, OH

Coverage: C-List for 100% of the requirement of the Department of Defense, as aggregated by the Defense Logistics Agency Land and Maritime, Columbus, OH

Service

Service Type/Location: Custodial Service, U.S. Army, Warrior Transition Battalion, 4-2027 Normandy Drive, Fort Bragg, NC

NPA: The Chimes, Inc., Baltimore, MD

Contracting Activity: Dept of the Army, W074 ENDIST WILMINGTON, Wilmington, NC

Deletion

The following products are proposed for deletion from the Procurement List:

Products

Liner, Flyer's Jacket, Air Force

NSN: 8415-00-844-9811—Green Quilted, Small

NSN: 8415-00-844-9812—Green Quilted, Medium

NSN: 8415-00-844-9813—Green Quilted, Large

NSN: 8415-00-844-9814—Green Quilted, X Large

NPA: Peckham Vocational Industries, Inc., Lansing, MI

Contracting Activity: Defense Logistics Agency Troop Support, Philadelphia, PA

Barry S. Lineback,
Director, Business Operations.

[FR Doc. 2014-22355 Filed 9-18-14; 8:45 am]

BILLING CODE 6353-01-P